DEPARTMENT OF LABOR

Employment and Training Administration

[NAFTA-5196]

Phelps Dodge Magnet Wire Company, Hopkinsville, KY; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 USC 2273), an investigation was initiated on August 13, 2001 in response to a petition filed on behalf of workers at Phelps Dodge Magnet Wire Company, Hopkinsville, Kentucky.

An active certification (NAFTA 3292), valid until August 13, 2001, remained in effect throughout the period of possible coverage for the petitioners and the entire workforce at Phelps Dodge Magnet Wire Company. Consequently, further investigation in this case would serve no purpose, and the investigation has been terminated.

Signed at Washington, DC, this 10th day of September, 2001.
Edward A. Tomchick,
Director, Division of Trade Adjustment Assistance.

[FR Doc. 01-23533 Filed 9-20-01; 8:45 am]

BILLING CODE 4510-30-M